DEPARTMENT OF TRANSPORTATION

Federal Motor Carrier Safety Administration

[Docket No. FMCSA-2018-0002]

Hours of Service of Drivers: Electronic Logging Devices; Application for Exemption; Old Dominion and Other Motor Carriers Experiencing Problems Integrating PeopleNet ELD System Updates Into Their Fleet Management Systems

AGENCY: Federal Motor Carrier Safety Administration (FMCSA), DOT.

ACTION: Notice of application for exemption; request for comments.

SUMMARY: FMCSA announces that Old Dominion Freight Line Inc. (Old Dominion) has requested an exemption from the electronic logging device (ELD) requirements. Old Dominion request this exemption to allow the company to install ELD devices running on automatic on-board recording device (AOBRD) software in commercial motor vehicles (CMVs) added to the company's fleet for up to one year from the December 18, 2017, ELD mandate compliance date. If granted, this modified ELD phase-in period will allow Old Dominion's AORBD/ELD provider, PeopleNet, to complete the development of the software necessary to integrate ELD data with the company's fleet management and safety systems to fully meet the ELD mandate. FMCSA considers the request to be on behalf of all motor carriers in similar situations concerning the integration of PeopleNet's ELD software into fleet management systems.

DATES: Comments must be received on or before March 2, 2018.

ADDRESSES: You may submit comments identified by Federal Docket Management System (FDMS) Number FMCSA-2018-0002 by any of the following methods:

• Federal eRulemaking Portal: www.regulations.gov. See the Public Participation and Request for Comments section below for further information.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: 1-202-493-2251.

• Each submission must include the Agency name and the docket number for this notice. Note that DOT posts all comments received without change to www.regulations.gov, including any personal information included in a comment.

Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. The on-line FDMS is available 24 hours each day, 365 days each year.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: For information concerning this notice, contact Mr. Tom Yager, Chief, FMCSA Driver and Carrier Operations Division; Office of Carrier, Driver and Vehicle Safety Standards; Telephone: 614-942-6477. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2018-0002), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comments online, go to www.regulations.gov and put the docket number, “FMCSA-2018-0002” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31136(e) and 31315 to grant exemptions from certain parts of the Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

III. Background

Old Dominion, USDOT 90849, reports that it is an interstate motor carrier based in North Carolina with 228 Service Centers located throughout the country. Its operations cover the entire continental United States. The company is one of the largest less-than-truckload carriers in the country, operating a fleet of more than 8,500 power units and employing more than 10,100 CMV drivers.

Old Dominion began equipping its vehicles with PeopleNet AOBRDs in 2010, and by 2011 the entire fleet was equipped with devices which meet the requirements of 49 CFR 395.15. Data from the AOBRDs feed directly into the company's fleet management and safety systems, enabling its dispatchers to know precisely where each of its drivers is at any given time and how many hours he/she has available under the Federal hours-of-service rules. This functionality is not required by the AOBRD rules under 49 CFR 395.15 or the ELD requirements under Subpart B of 49 CFR art 395.

Currently, the PeopleNet AOBRD software allows carriers to configure certain specifications. If the settings were not adjustable, the PeopleNet AOBRD would be similar to, but not identical to the FMCSA's ELD technical specifications. Old Dominion has configured its settings in the PeopleNet AOBRDs it uses. However, certain AOBRD software changes must be made by PeopleNet, including:

• Disabling the “skip feature;”

• Limiting the auto-duty status change threshold to 5 miles; and

• Limiting geo-fencing of yard time to 0.5 miles.

When these changes are fully implemented, the PeopleNet system used by Old Dominion would meet the ELD requirements according to Old Dominion.

IV. Request for Exemption

Old Dominion is requesting a one-year exemption to permit the company to install and use ELD hours-of-service recording devices (i.e., hardware) running PeopleNet's AOBRD software that meets the requirements of 49 CFR 395.15, rather than ELD software that meets the requirements of subpart B to part 395, for any truck added to its fleet on or after December 18, 2017, until the company's full transition to ELDs can be accomplished. Old Dominion explained that the exemption would provide the company time to work with its AOBRD/ELD provider, PeopleNet, to complete the development of the software necessary to integrate ELD data with Old Dominion's fleet management and safety systems. The integration of the hours-of-service data with the fleet management and safety systems would enable the company to achieve a high level of safety oversight of its drivers.

FMCSA considers the request to be on behalf of all motor carriers in similar situations concerning the integration of PeopleNet's ELD software into fleet management systems.

Old Dominion explained that all of the PeopleNet AOBRD and ELD hardware currently installed in Old Dominion's vehicles, and the systems that will be installed in the near future, would satisfy the ELD mandate after the company implements the transition to PeopleNet's December 15, 2017, release. However, the new PeopleNet release does not include the necessary means to integrate into Old Dominion's fleet management and safety software.

A copy of Old Dominion's application for exemption is available for review in the docket for this notice.

Issued on: January 23, 2018.
Larry W. Minor,
Associate Administrator for Policy.

[FR Doc. 2018-01939 Filed 1-30-18; 8:45 am]

BILLING CODE 4910-EX-P